DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Twin Cities and Western Railroad (Docket Number FRA-2008-0154); Canadian Pacific Railroad (Docket Number FRA-2008-0163); Escanaba and Lake Superior Railroad Company (Docket Number FRA-2008-0155)

The Twin Cities and Western Railroad (TC&W), Canadian Pacific Railroad (CP), and Escanaba and Lake Superior Railroad Company (E&LS), seek permanent waivers of compliance from certain provisions of the Railroad Safety Appliance Standards in Title 49 CFR Part 231, concerning RailMate® train operations over their systems. Specifically, TC&W, CP, and E&LS request relief from those sections of 49 CFR Part 231 that stipulate the number, location, and dimensions for handholds, ladders, sill steps, and uncoupling levers, and handbrakes. TC&W, CP and E&LS also seek relief from 49 CFR Part 231.31, which sets the standard height for drawbars.

TC&W, CP, and E&LS state that these waivers are necessary to permit them to begin operation of RailMate® equipment over various routes on their systems.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0154, 2008-0163, and/or 2008-0155) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Because of the similarity of the subject requests, FRA reserves the right to consider comments filed in any one of the three dockets with respect to the resolution of the request(s) in more than one docket, to the extent the comment is applicable to the particular request.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on January 8, 2009.
Grady C. Cothen, Jr.
Deputy Associate Administrator for Safety Standards and Program Development.

[FR Doc. E9-615 Filed 1-13-09; 8:45 am]

BILLING CODE 4910-06-P